DEPARTMENT OF HOMELAND SECURITY

Coast Guard

33 CFR Part 165

[Docket No. USCG-2025-0436]

Safety Zone; Ashland 4th of July Fireworks Display, Ashland, WI

AGENCY: Coast Guard, DHS.

ACTION: Notification of enforcement of regulation.

SUMMARY: The Coast Guard will enforce a safety zone for the Ashland 4th of July Firework Display to provide for the safety of life on navigable waterways during this event in Ashland, WI. During the enforcement period, entry into, transiting, or anchoring within the safety zone is prohibited unless authorized by the Captain of the Port (COTP) Marine Safety Unit Duluth or a designated representative.

DATES: The regulations in 33 CFR 165.943 will be enforced for the Ashland 4th of July Fireworks Display regulated area listed in item 2 in Table 1 to § 165.943, from 9:30 p.m. to 11:30 p.m. on July 4, 2025.

FOR FURTHER INFORMATION CONTACT: If you have questions about this notification of enforcement, call or email LT Zachary Fedak, Marine Safety Unit Duluth, U.S. Coast Guard; telephone (218) 522-0708, email Zachary.A.Fedak@uscg.mil.

SUPPLEMENTARY INFORMATION: The Coast Guard will enforce the safety zone in 33 CFR 165.943 for the Ashland 4th of July Firework Display listed in item 2 in Table 1 to § 165.943 from 9:30 p.m. to 11:30 p.m. on July 4, 2025. This action is being taken to provide for the safety of life on navigable waterways during this event. The regulation for recurring marine events within the Captain of the Port Duluth Zone, Table 1 to § 165.943, item 2, specifies the location of the regulated area for the Ashland 4th of July Firework Display which encompasses portions of Chequamegon Bay. During the enforcement period, no vessel or person will be permitted to enter the safety zone without obtaining permission from the COTP Marine Safety Unit Duluth or his or her on-scene representative.

In addition to this notification of enforcement in the Federal Register, the Coast Guard will provide the maritime community with notifications of this enforcement period via Broadcast Notice to Mariners. The COTP Marine Safety Unit Duluth on-scene representative may be contacted via VHF-FM Channel 16.

Dated: May 28, 2025.
John P. Botti,
Commander, U.S. Coast Guard, Captain of the Port Duluth.

[FR Doc. 2025-10171 Filed 6-3-25; 8:45 am]

BILLING CODE 9110-04-P